ENVIRONMENTAL PROTECTION AGENCY

40 CFR Part 98

[EPA-HQ-OAR-2011-0191; FRL-9283-7]

RIN 2060-AQ87

Final Regulation Extending the Reporting Deadline for Year 2010 Data Elements Required Under the Mandatory Reporting of Greenhouse Gases Rule

AGENCY: Environmental Protection Agency (EPA).

ACTION: Final rule.

SUMMARY: EPA is promulgating this final rule to extend until September 30, 2011 the reporting deadline for year 2010 data required under the Mandatory Reporting of Greenhouse Gases Rule. This deadline extension will, in the first year of the Greenhouse Gas Reporting Program, allow time for needed refinement of the electronic data reporting system, stakeholder testing of the reporting system and feedback to EPA, and reporter access to the reporting system in advance of the reporting deadline. This rule changes only the deadline for reporting for 2011; it does not change the reporting deadline for future years and does not change what data must be reported.

DATES: This final rule is effective on March 18, 2011.

ADDRESSES: Docket: All documents in the docket are listed in the http://www.regulations.gov index. Although listed in the index, some information is not publicly available, e.g., Confidential Business Information (CBI) or other information whose disclosure is restricted by statute. Certain other material, such as copyrighted material, will be publicly available only in hard copy. Publicly available docket materials are available either electronically in http://www.regulations.gov or in hard copy at the Air Docket, EPA/DC, EPA West Building, Room 3334, 1301 Constitution Ave., NW., Washington, DC. This Docket Facility is open from 8:30 a.m. to 4:30 p.m., Monday through Friday, excluding Federal holidays. The telephone number for the Public Reading Room is (202) 566-1744, and the telephone number for the Air Docket is (202) 566-1742.

FOR FURTHER INFORMATION CONTACT: Carole Cook, Climate Change Division, Office of Atmospheric Programs (MC-6207J), Environmental Protection Agency, 1200 Pennsylvania Ave., NW., Washington, DC 20460; telephone number: (202) 343-9263; fax number: (202) 343-2342; e-mail address: GHGReportingRule@EPA.gov.

Worldwide Web (WWW). In addition to being available in the docket, an electronic pre-publication copy of this final rule will also be available through the WWW. Following the Administrator's signature, a copy of this action will be posted on EPA's greenhouse gas reporting rule Web site at http://www.epa.gov/climatechange/emissions/ghgrulemaking.html.

SUPPLEMENTARY INFORMATION: Acronyms and Abbreviations. The following acronyms and abbreviations are used in this document.

APA Administrative Procedure Act

CAA Clean Air Act

CBI Confidential Business Information

CEMS continuous emission monitoring system(s)

CFR Code of Federal Regulations

CRA Congressional Review Act

e-GGRT Electronic Greenhouse Gas Reporting Tool

EPA U.S. Environmental Protection Agency

FR Federal Register

GHG greenhouse gas

NAICS North American Industry Classification System

NTTAA National Technology Transfer and Advancement Act

OMB Office of Management and Budget

RFA Regulatory Flexibility Act

UMRA Unfunded Mandates Reform Act

U.S.C. United States Code

WWW Worldwide Web

Organization of this Document. The following outline is provided to aid in locating information in this preamble.

I. Background

II. Summary of the Final Rule

A. Facilities Affected

B. Amendment

III. Rationale for the Final Rule

IV. Need for a Final Rule

V. Statutory and Executive Order Reviews

A. Executive Order 12866: Regulatory Planning and Review

B. Paperwork Reduction Act

C. Regulatory Flexibility Act (RFA)

D. Unfunded Mandates Reform Act (UMRA)

E. Executive Order 13132: Federalism

F. Executive Order 13175: Consultation and Coordination With Indian Tribal Governments

G. Executive Order 13045: Protection of Children From Environmental Health Risks and Safety Risks

H. Executive Order 13211: Actions That Significantly Affect Energy Supply, Distribution, or Use

I. National Technology Transfer and Advancement Act

J. Executive Order 12898: Federal Actions To Address Environmental Justice in Minority Populations and Low-Income Populations

K. Congressional Review Act

Does this action apply to me? The Administrator determined that this action is subject to the provisions of Clean Air Act (CAA) section 307(d). See CAA section 307(d)(1)(V) (the provisions of CAA section 307(d) apply to “such other actions as the Administrator may determine”). This action amends existing regulations. Entities affected by this action are owners or operators of facilities that are direct emitters or suppliers of greenhouse gases (GHGs) and are required to report these emissions under 40 CFR part 98 (hereinafter referred to as “reporters”), which include those listed in Table 1 of this preamble:

Table 1—Examples of Affected Entities by Category
Category | NAICS | Examples of affected facilities
General Stationary Fuel Combustion Sources |  | Facilities operating boilers, process heaters, incinerators, turbines, and internal combustion engines:
| 321 | Manufacturers of lumber and wood products.
| 322 | Pulp and paper mills.
| 325 | Chemical manufacturers.
| 324 | Petroleum refineries, and manufacturers of coal products.
| 316, 326, 339 | Manufacturers of rubber and miscellaneous plastic products.
| 331 | Steel works, blast furnaces.
| 332 | Electroplating, plating, polishing, anodizing, and coloring.
| 336 | Manufacturers of motor vehicle parts and accessories.
| 221 | Electric, gas, and sanitary services.
| 622 | Health services.
| 611 | Educational services.
| 325193 | Ethyl alcohol manufacturing facilities.
| 311611 | Meat processing facilities.
| 311411 | Frozen fruit, juice, and vegetable manufacturing facilities.
| 311421 | Fruit and vegetable canning facilities.
Electricity Generation | 221112 | Fossil-fuel fired electric generating units, including units owned by Federal and municipal governments and units located in Indian Country.
Adipic Acid Production | 325199 | Adipic acid manufacturing facilities.
Aluminum Production | 331312 | Primary Aluminum production facilities.
Ammonia Manufacturing | 325311 | Anhydrous and aqueous ammonia manufacturing facilities.
Cement Production | 327310 | Portland Cement manufacturing plants.
Ferroalloy Production | 331112 | Ferroalloys manufacturing facilities.
Glass Production | 327211 | Flat glass manufacturing facilities.
| 327213 | Glass container manufacturing facilities.
| 327212 | Other pressed and blown glass and glassware manufacturing facilities.
HCFC-22 Production and HFC-23 Destruction | 325120 | Chlorodifluoromethane manufacturing facilities.
Hydrogen Production | 325120 | Hydrogen manufacturing facilities.
Iron and Steel Production | 331111 | Integrated iron and steel mills, steel companies, sinter plants, blast furnaces, basic oxygen process furnace shops.
Lead Production | 331419 | Primary lead smelting and refining facilities.
| 331492 | Secondary lead smelting and refining facilities.
Lime Production | 327410 | Calcium oxide, calcium hydroxide, dolomitic hydrates manufacturing facilities.
Municipal Solid Waste Landfills | 562212 | Solid waste landfills.
| 221320 | Sewage treatment facilities.
Nitric Acid Production | 325311 | Nitric acid manufacturing facilities.
Petrochemical Production | 32511 | Ethylene dichloride manufacturing facilities.
| 325199 | Acrylonitrile, ethylene oxide, methanol manufacturing facilities.
| 325110 | Ethylene manufacturing facilities.
| 325182 | Carbon black manufacturing facilities.
Petroleum Refineries | 324110 | Petroleum refineries.
Phosphoric Acid Production | 325312 | Phosphoric acid manufacturing facilities.
Pulp and Paper Manufacturing | 322110 | Pulp mills.
| 322121 | Paper mills.
| 322130 | Paperboard mills.
Silicon Carbide Production | 327910 | Silicon carbide abrasives manufacturing facilities.
Soda Ash Manufacturing | 325181 | Alkalies and chlorine manufacturing facilities.
| 212391 | Soda ash, natural, mining and/or beneficiation.
Titanium Dioxide Production | 325188 | Titanium dioxide manufacturing facilities.
Zinc Production | 331419 | Primary zinc refining facilities.
| 331492 | Zinc dust reclaiming facilities, recovering from scrap and/or alloying purchased metals.
Municipal Solid Waste Landfills | 562212 | Solid waste landfills.
| 221320 | Sewage treatment facilities.
Suppliers of Coal-based Liquid Fuels | 211111 | Coal liquefaction at mine sites.
Suppliers of Petroleum Products | 324110 | Petroleum refineries.
Suppliers of Natural Gas and Natural Gas Liquids | 221210 | Natural gas distribution facilities.
| 211112 | Natural gas liquid extraction facilities.
Suppliers of Industrial Greenhouse Gases | 325120 | Industrial gas manufacturing facilities.
Suppliers of Carbon Dioxide | 325120 | Industrial gas manufacturing facilities.

Table 1 of this preamble is not intended to be exhaustive, but rather provides a guide for readers regarding facilities likely to be affected by this action. Types of facilities other than those listed in the table could also be subject to reporting requirements. To determine whether you are affected by this action, you should carefully examine the applicability criteria found in 40 CFR part 98, subparts C through PP, excluding subparts I, J, L, M, T, W, DD, FF, II, JJ, and KK. If you have questions regarding the applicability of this action to a particular facility, consult the person listed in the preceding FOR FURTHER INFORMATION CONTACT section.

Judicial Review. Under CAA section 307(b)(1), judicial review of this final rule is available only by filing a petition for review in the U.S. Court of Appeals for the District of Columbia Circuit by May 17, 2011. Filing a petition for reconsideration by the Administrator of this final rule does not affect the finality of this rule for the purpose of judicial review nor does it extend the time within which petitions for judicial review may be filed, and shall not postpone the effectiveness of such rule or action. Any person seeking to submit a Petition for Reconsideration should submit it to the Office of the Administrator, Environmental Protection Agency, Room 3000, Ariel Rios Building, 1200 Pennsylvania Ave., NW., Washington, DC 20004, with a copy to the person listed in the preceding FOR FURTHER INFORMATION CONTACT section, and the Associate General Counsel for the Air and Radiation Law Office, Office of General Counsel (Mail Code 2344A), Environmental Protection Agency, 1200 Pennsylvania Ave., NW., Washington, DC 20004. This action may not be challenged later in proceedings to enforce its requirements. (See CAA section 307(b)(2)).

I. Background

On October 30, 2009, EPA published the Mandatory GHG Reporting Rule (40 CFR part 98) for collecting information regarding GHGs from a broad range of industry sectors (74 FR 56260). Under 40 CFR part 98 (hereinafter referred to as “Part 98”) and its subsequent amendments, EPA is collecting data from certain facilities and suppliers. The data to be reported consists of GHG emissions information as well as other data, including information necessary to characterize, quantify, and verify the reported emissions. For reporters required to submit 2010 GHG data under Part 98, the original reporting deadline was March 31, 2011.

As explained in the preamble to the 2009 reporting rule, the GHG Reporting Program requires electronic reporting through a centralized data system (40 CFR 98.5). Electronic reporting facilitates efficient and effective review of the large volume of data anticipated to be reported. The data system, called the Electronic Greenhouse Gas Reporting Tool (e-GGRT), guides reporters through registration and provides an option for reporting using step-by-step Web forms or through bulk transmission of data using a standard extensible markup language (XML) format. Development of the reporting tool has involved translating the detailed industry-specific reporting requirements of Part 98 into a user-friendly software program. The registration module of the tool has been available since December 2010. EPA has been developing the subpart reporting modules since the final requirements for Part 98 were issued.

Since the final rule establishing Part 98 was published in October 2009, we have published several rule amendments. These include addition of facility- and parent-level reporting requirements (75 FR 57669, September 22, 2010); technical corrections and other amendments (75 FR 66434, October 28, 2010); changes partially in response to petitions for review and reconsideration (75 FR 79092, December 17, 2010); and interim changes in response to industry concerns about potential public availability of sensitive data (75 FR 81338, December 27, 2010). Though e-GGRT development began in 2009, each amendment or addition to the Part 98 reporting requirements has also necessitated changes to the data reporting system.

In the preamble to Part 98, we described our intention to make the electronic reporting system, along with training and instructional materials, available to reporters before the reporting deadline. (See, e.g., 74 FR 56282.) This would allow those reporters to become familiar with the tool, to request any needed guidance from EPA, and to receive EPA guidance and training in advance of the reporting deadline, as occurred with the registration module released in December 2010. In the preamble to Part 98, we also described our intention to engage stakeholders in testing of the data reporting system (see, e.g., 74 FR 56358), which would allow EPA to use stakeholder feedback to refine the final version of the reporting system.

To that end, EPA is issuing this final rule extending the Part 98 reporting deadline in the first year of the reporting program to allow time for needed data system refinement, stakeholder testing of the data system and feedback to EPA, and reporter access to e-GGRT in advance of the reporting deadline.

II. Summary of the Final Rule

A. Reporters Affected

This action affects only reporters that are subject to the source category-specific reporting requirements in 40 CFR part 98, subparts C through PP, excluding subparts I, J, L, M, T, W, DD, FF, II, JJ, and KK. This includes only reporters covered by the Part 98 subparts published on October 30, 2009, which require these facilities and suppliers to begin monitoring emissions on January 1, 2010 and to submit their first annual GHG report (covering calendar year 2010 emissions) by March 31, 2011. The list of affected source categories is provided in Table 2 of this preamble.¹

¹ Certain source categories were revised in an action published on Dec. 17, 2010 (75 FR 79092).

Table 2—Source Categories Covered by This Action
Source category | 40 CFR part 98 subpart | Federal Register notice
General Stationary Fuel Combustion Sources | C | 74 FR 56260, 75 FR 79092.
Electricity Generation | D | 74 FR 56260, 75 FR 79092.
Adipic Acid Production | E | 74 FR 56260, 75 FR 66434.
Aluminum Production | F | 74 FR 56260, 75 FR 79092.
Ammonia Manufacturing | G | 74 FR 56260, 75 FR 79092.
Cement Production | H | 74 FR 56260, 75 FR 66434.
Ferroalloy Production | K | 74 FR 56260, 75 FR 66434.
Glass Production | N | 74 FR 56260, 75 FR 66434.
HCFC-22 Production and HFC-23 Destruction | O | 74 FR 56260, 75 FR 66434.
Hydrogen Production | P | 74 FR 56260, 75 FR 66434, 75 FR 79092.
Iron and Steel Production | Q | 74 FR 56260, 75 FR 66434.
Lead Production | R | 74 FR 56260.
Lime Manufacturing | S | 74 FR 56260, 75 FR 66434.
Miscellaneous Uses of Carbonate | U | 74 FR 56260.
Nitric Acid Production | V | 74 FR 56260, 75 FR 66434, 75 FR 79092.
Petrochemical Production | X | 74 FR 56260, 75 FR 79092.
Petroleum Refineries | Y | 74 FR 56260, 75 FR 79092.
Phosphoric Acid Production | Z | 74 FR 56260, 75 FR 66434.
Pulp and Paper Manufacturing | AA | 74 FR 56260, 75 FR 79092.
Silicon Carbide Production | BB | 74 FR 56260.
Soda Ash Manufacturing | CC | 74 FR 56260, 75 FR 66434.
Titanium Dioxide Production | EE | 74 FR 56260, 75 FR 66434.
Zinc Production | GG | 74 FR 56260, 75 FR 66434.
Municipal Solid Waste Landfills | HH | 74 FR 56260, 75 FR 66434.
Suppliers of Coal-based Liquid Fuels | LL | 74 FR 56260.
Suppliers of Petroleum Products | MM | 74 FR 56260, 75 FR 66434.
Suppliers of Natural Gas and Natural Gas Liquids | NN | 74 FR 56260, 75 FR 66434, 75 FR 79092.
Suppliers of Industrial Greenhouse Gases | OO | 74 FR 56260, 75 FR 79092.
Suppliers of Carbon Dioxide | PP | 74 FR 56260, 75 FR 79092.

B. Amendment

This amendment to Part 98 extends the regulatory deadline for reporters to report their 2010 GHG data from the current regulatory deadline of March 31, 2011 until September 30, 2011. This deadline extension includes the reporting deadline for those data elements used as inputs to emission equations, which was deferred in the Interim Final Regulation Deferring the Reporting Date for Certain Data Elements Required Under the Mandatory Reporting of Greenhouse Gases Rule (75 FR 81338, December 27, 2010). Because the regulatory deadline for reporters of 2010 GHG data to register in e-GGRT by submitting a certificate of representation is at least 60 days before the reporting deadline (40 CFR 98.4(d)), this reporting deadline extension also has the effect of extending the registration deadline to at least 60 days before September 30, 2011. This rule also corrects a typographical error in 40 CFR part 98.3 by redesignating the second paragraph (c)(4)(vi) as paragraph (c)(4)(viii). This final rule does not change any other requirements of Part 98 or extend the reporting deadline for future years.

III. Rationale for the Final Rule

EPA has determined that an extension of the deadline for reporting 2010 GHG data under Part 98 is necessary to help successfully implement the reporting tool and improve reporting and data quality in the first year of the program. EPA deems this reporting deadline extension necessary to allow EPA to test and refine e-GGRT more extensively; give stakeholders the opportunity to test the tool and provide feedback to EPA, allowing us to further refine the tool and better tailor our training and outreach; and give reporters time to become familiar with the tool in advance of the reporting deadline, improving their reporting experience and the quality of the reported data.

IV. Need for a Final Rule

EPA is issuing this final rule under section 307(d)(1) of the Clean Air Act, which states: “The provisions of section 553 through 557 * * * of Title 5 shall not, except as expressly provided in this section, apply to actions to which this subsection applies. This subsection shall not apply in the case of any rule or circumstance referred to in subparagraphs (A) or (B) of subsection 553(b) of Title 5.” Consistent with this language, EPA is using the good cause exemption under the Administrative Procedure Act (APA) to take the actions set forth in this final rule without prior notice and comment. See 5 U.S.C. 553(b)(B). Section 553(b) of the APA generally requires that any rule to which it applies be issued only after the public has received notice of, and had an opportunity to comment on, the proposed rule. However, APA section 553(b)(B) exempts from those requirements any rule for which the issuing agency for good cause finds that providing prior notice and comment would be impracticable, unnecessary, or contrary to the public interest. Thus, any rule for which EPA makes such a finding is exempt from the notice and comment requirements of APA section 553(b).

As explained below, EPA finds good cause to take the actions set forth in this final rule without prior notice and comment because providing prior notice and comment would be impracticable, unnecessary, and contrary to the public interest. Notice and comment on this short deadline extension are impracticable, as EPA likely would not be able to complete a notice and comment rulemaking for a deadline extension before the original March 31, 2011 reporting deadline, thus defeating the purpose of undertaking such a rulemaking. As described in Section I of this preamble, EPA deems it important to engage stakeholders in testing the Part 98 data reporting system and to use their feedback to refine the system prior to the system's public release. Also as described above, EPA also deems it important to improve the reporting experience and data quality by giving reporters access to the reporting tool far enough in advance of the first year's reporting deadline for reporters to become familiar with the tool and for EPA to tailor outreach and training based on their questions and feedback. The changes to the reporting system required by the various additions and amendments to Part 98, listed in Section I of this preamble, cumulatively prevented EPA from developing the reporting tool in time to complete these activities in advance of the original reporting date. These cumulative effects did not become apparent in time for EPA to extend the reporting deadline through a notice and comment rulemaking process, making that process impracticable and necessitating this final rule. Additionally, in January and February 2011, EPA received far more requests for assistance with registration in e-GGRT, required for all reporters in advance of reporting, than had been expected. The number and diversity of requests for clarification or assistance with registration are strong evidence of the necessity of stakeholder testing and advanced reporter familiarity with the reporting system that only recently came to light.

Further, given the short period of time that this final rule will extend the reporting deadline, and the fact that this rule will extend the deadline only for 2010 data, EPA considers soliciting public comment on this final rule to be unnecessary. This final rule simply provides the Agency with brief additional time to engage stakeholders in testing, incorporate feedback, and make final improvements to the Part 98 electronic reporting tool, as well as to give reporters time to become familiar with the tool in advance of the reporting deadline in the first year of the program. EPA's intent to publish non-confidential 2010 data by the end of 2011 remains unchanged.

EPA also considers soliciting public comment on this final rule, which likely would prevent the rule from being finalized in time to extend the reporting deadline by March 31, 2011, to be contrary to the public interest. EPA is briefly extending the deadline for reporting 2010 data to allow EPA to solicit additional stakeholder feedback and make final improvements to the electronic data reporting tool that are important to the success of the reporting program. These adjustments will improve the tool, improve user experience with the tool and with the reporting program, and ultimately provide higher quality greenhouse gas emissions data to EPA and to the public. Further, even if EPA could complete a notice and comment deadline extension before March 31, 2011, the risk that we would not be able to complete such a rulemaking before the original reporting deadline would create regulatory uncertainty. EPA thus finds good cause to briefly extend the reporting deadline without notice and comment.

EPA is also using the APA's good cause exemption to make this final rule effective on March 18, 2011. See 5 U.S.C. 553(d)(3). Section 553(d) of the APA, 5 U.S.C. Chapter 5, generally provides that rules may not take effect earlier than 30 days after they are published in the Federal Register. EPA is issuing this final rule under CAA section 307(d)(1), which states: “The provisions of section 553 through 557 * * * of Title 5 shall not, except as expressly provided in this section, apply to actions to which this subsection applies.” Thus, section 553(d) of the APA does not apply to this rule. EPA is nevertheless acting consistently with the purposes underlying APA section 553(d) in making this rule effective on March 18, 2011.

Section 553(d)(3) of the APA allows an effective date less than 30 days after publication “as otherwise provided by the agency for good cause found and published with the rule.” As explained below, EPA finds that there is good cause for this rule to become effective on March 18, 2011, even though this results in an effective date fewer than 30 days from date of publication in the Federal Register.

The purpose of the 30-day waiting period prescribed in APA section 553(d) is to give affected parties a reasonable time period to adjust their behavior and prepare before the final rule takes effect. This final rule extends a reporting deadline, requiring little preparation or behavior adjustment. A shorter effective date in such circumstances is consistent with the purposes of APA section 553(d), which provides an exception for any action that grants or recognizes an exemption or relieves a restriction. Further, APA section 553(d)(3) provides that if the issuing agency has made a finding of good cause and published its reasoning with the rule, the rule may take effect sooner than 30 days. EPA has determined that good cause exists to extend the reporting deadline for 2010 data until September 30, 2011 in this final rule without prior notice and comment, because prior notice and comment would be impracticable, unnecessary, and contrary to the public interest for the reasons stated above. Accordingly, we find that good cause exists to make this rule effective on March 18, 2011, consistent with the purposes of APA section 553(d)(3).

V. Statutory and Executive Order Reviews

A. Executive Order 12866: Regulatory Planning and Review

This action is not a “significant regulatory action” under the terms of Executive Order 12866 (58 FR 51735, October 4, 1993) and is therefore not subject to review under the Executive Order.

B. Paperwork Reduction Act

This action does not impose any new information collection burden. This final rule extends the reporting deadline for 2010 data, so it does not increase the reporting burden. However, OMB has previously approved the information collection requirements contained in the regulations promulgated on October 30, 2009, under 40 CFR part 98 under the provisions of the Paperwork Reduction Act, 44 U.S.C. 3501 et seq. and has assigned OMB control number 2060-0629. EPA has also submitted the Information Collection Request requirements for four additional Part 98 subparts promulgated on July 12, 2010 to OMB for approval (see 75 FR 39756). The OMB control numbers for EPA's regulations in 40 CFR are listed in 40 CFR part 9.

C. Regulatory Flexibility Act (RFA)

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the effects of this rule on small entities, “small entity” is defined as: (1) A small business as defined by the Small Business Administration's regulations at 13 CFR 121.201; (2) a small governmental jurisdiction that is a government of a city, county, town, school district or special district with a population of less than 50,000; and (3) a small organization that is any not-for-profit enterprise which is independently owned and operated and is not dominant in its field.

After considering the economic impacts of this final rule on small entities, I certify that this action will not have a significant economic impact on a substantial number of small entities. The rule will not impose any new requirements on small entities that are not currently required by Part 98.

D. Unfunded Mandates Reform Act (UMRA)

Title II of the Unfunded Mandates Reform Act of 1995 (UMRA), 2 U.S.C. 1531-1538, requires Federal agencies, unless otherwise prohibited by law, to assess the effects of their regulatory actions on State, local, and tribal governments and the private sector. Federal agencies must also develop a plan to provide notice to small governments that might be significantly or uniquely affected by any regulatory requirements. The plan must enable officials of affected small governments to have meaningful and timely input in the development of EPA regulatory proposals with significant Federal intergovernmental mandates and must inform, educate, and advise small governments on compliance with the regulatory requirements.

The amendment to 40 CFR part 98 does not contain a Federal mandate that may result in expenditures of $100 million or more for State, local, and tribal governments, in the aggregate, or the private sector in any one year. The amendment only postpones the reporting date for 2010 data under Part 98, so it does not increase the costs for facilities to comply with Part 98. Thus, the action is not subject to the requirements of sections 202 or 205 of UMRA.

In developing Part 98, EPA consulted with small governments pursuant to a plan established under section 203 of UMRA to address effects of regulatory requirements in the rule that might significantly or uniquely affect small governments. For a summary of EPA's consultations with State and/or local officials or other representatives of State and/or local governments in developing Part 98, see Section VIII.D of the preamble to the final rule (74 FR 56370, October 30, 2009).

E. Executive Order 13132: Federalism

This action does not have federalism implications. It will not have substantial direct effects on the States, on the relationship between the national government and the States, or on the distribution of power and responsibilities among the various levels of government, as specified in Executive Order 13132. However, for a more detailed discussion about how Part 98 relates to existing State programs, please see Section II of the preamble to the final rule (74 FR 56266, October 30, 2009).

This amendment applies to facilities that emit or supply greenhouses gases. It does not apply to government entities unless a government entity owns a facility that directly emits greenhouse gases above threshold levels (such as a landfill), so relatively few government facilities would be affected. This regulation also does not limit the power of States or localities to collect GHG data and/or regulate GHG emissions. Thus, Executive Order 13132 does not apply to this action. For a summary of EPA's consultation with State and local organizations and representatives in developing Part 98, see Section VIII.E of the preamble to the final rule (74 FR 56371, October 30, 2009).

F. Executive Order 13175: Consultation and Coordination With Indian Tribal Governments

This action does not have tribal implications, as specified in Executive Order 13175 (65 FR 67249, November 9, 2000). The rule does not result in any changes to the requirements of Part 98 other than postponing the reporting deadline for 2010 GHG data until September 30, 2011. Thus, Executive Order 13175 does not apply to this action. For a summary of EPA's consultations with tribal governments and representatives, see section VIII.F of the preamble to the final rule (74 FR 56371, October 30, 2009).

G. Executive Order 13045: Protection of Children From Environmental Health Risks and Safety Risks

EPA interprets Executive Order 13045 (62 FR 19885, April 23, 1997) as applying only to those regulatory actions that concern health or safety risks, such that the analysis required under section 5-501 of the Executive Order has the potential to influence the regulation. This action is not subject to Executive Order 13045 because it does not establish an environmental standard intended to mitigate health or safety risks.

H. Executive Order 13211: Actions That Significantly Affect Energy Supply, Distribution, or Use

This action is not subject to Executive Order 13211 (66 FR 28355, May 22, 2001), because it is not a significant regulatory action under Executive Order 12866.

I. National Technology Transfer and Advancement Act

Section 12(d) of the National Technology Transfer and Advancement Act of 1995 (NTTAA), Public Law 104-113 (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. NTTAA directs EPA to provide Congress, through OMB, explanations when the Agency decides not to use available and applicable voluntary consensus standards.

The rule does not involve technical standards. Therefore, EPA is not considering the use of any voluntary consensus standards.

J. Executive Order 12898: Federal Actions To Address Environmental Justice in Minority Populations and Low-Income Populations

Executive Order 12898 (59 FR 7629, February 16, 1994) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States.

EPA has determined that this final rule will not have disproportionately high and adverse human health or environmental effects on minority or low-income populations because it does not affect the level of protection provided to human health or the environment. The amendment addresses only reporting procedures.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated above, EPA has made such a good cause finding, including the reasons therefore, and established an effective date of March 18, 2011. EPA will submit a report containing this rule and other required information to the U.S. Senate, the U.S. House of Representatives, and the Comptroller General of the United States. This action is not a “major rule” as defined by 5 U.S.C. 804(2).

List of Subjects in 40 CFR Part 98

Environmental protection, Administrative practice and procedure, Greenhouse gases, Reporting and recordkeeping requirements.

Dated: March 11, 2011.
Lisa P. Jackson,
Administrator.

For the reasons set out in the preamble, title 40, Chapter I, of the Code of Federal Regulations is amended as follows:

PART 98—[AMENDED]

1. The authority citation for part 98 continues to read as follows:

Authority: 42 U.S.C. 7401, et seq.

Subpart A—[Amended]

2. Section 98.3 is amended by:

a. Revising paragraph (b) introductory text.

b. Redesignating the second paragraph (c)(4)(vi) as paragraph (c)(4)(viii).

c. Revising paragraph (c)(4)(vii).

d. Revising paragraph (d)(3) introductory text.

§ 98.3 What are the general monitoring, reporting, recordkeeping and verification requirements of this part?

* * * * *

(b) Schedule. The annual GHG report for reporting year 2010 must be submitted no later than September 30, 2011. The annual report for reporting years 2011 and beyond must be submitted no later than March 31 of each calendar year for GHG emissions in the previous calendar year. As an example, for a facility or supplier that is subject to the rule in calendar year 2011, the annual report must be submitted on March 31, 2012.

* * * * *

(c) * * *

(4) * * *

(vii) The owner or operator of a facility is not required to report the data elements specified in Table A-6 of this subpart for calendar year 2010 until September 30, 2011.

* * * * *

(d) * * *

(3) Abbreviated emissions report for facilities containing only general stationary fuel combustion sources. In lieu of the report required by paragraph (c) of this section, the owner or operator of an existing facility that is in operation on January 1, 2010 and that meets the conditions of § 98.2(a)(3) may submit an abbreviated GHG report for the facility for GHGs emitted in 2010. The abbreviated report must be submitted by September 30, 2011. An owner or operator that submits an abbreviated report must submit a full GHG report according to the requirements of paragraph (c) of this section beginning in calendar year 2012. The abbreviated facility report must include the following information:

* * * * *

3. Table A-6 to subpart A of part 98 is amended by revising the heading to read as follows:

Table A-6 to Subpart A of Part 98—Data Elements That Are Inputs to Emission Equations and for Which the Reporting Deadline Is Changed to September 30, 2011

* * * * *

[FR Doc. 2011-6417 Filed 3-17-11; 8:45 am]

BILLING CODE 6560-50-P